FEDERAL COMMUNICATIONS COMMISSION

Notice of Public Information Collection(s) Being Reviewed by the Federal Communications Commission

May 28, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 7, 2003. If you anticipate that you will be submitting comments, but find it difficult to do so within the period of time allowed by this notice, you should advise the contact listed below as soon as possible.

ADDRESSES: Direct all Paperwork Reduction Act comments to Judith B. Herman, Federal Communications Commission, Room 1-C804, 445 12th Street, SW., DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-1007.

Title: Streamlining and Other Revisions of Part 25 of the Commission's Rules.

Form No.: FCC Form 312, Schedule S.

Type of Review: Revision of a currently approved collection.

Respondents: Business or other for-profit.

Number of Respondents: 150 respondents; 971 responses.

Estimated Time Per Response: 10 hours (5 hours for outside legal assistance).

Frequency of Response: On occasion, annual, and other reporting requirements, third party disclosure requirement.

Total Annual Burden: 9,686 hours.

Total Annual Cost: $95,194,000.

Needs and Uses: On May 19, 2003, the Commission released a First Report and Order (R&O) in IB Docket Nos. 02-34 and 02-54, FCC 03-102. The Report and Order adopts two different licensing frameworks for non-geostationary orbit (NGSO)-like systems and geostationary orbit (GSO)-like systems. The R&O requires that new licensees execute a bond in the amount of $7.5 million for NGSO licensees and $5 million for GSO licensees and submit the bond to the Commission within 30 days of license grant. The bond would discourage speculative applications without deterring legitimate satellite operators. The bond only applies to new satellite licensees only, not replacement satellites. The Report and Order results in faster provision of satellite services to the public, thus enabling the U.S. satellite industry to maintain its leadership rule in the world market. This collection of information is used by the Commission in carryout out its duties as required by the Communications Act and the World Trade Organization (WTO) Basic Telecom Agreement.

Federal Communications Commission.
Marlene H. Dortch,
Secretary.

[FR Doc. 03-14289 Filed 6-5-03; 8:45 am]

BILLING CODE 6712-01-P